DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 24, 2010.

Interested persons are invited to submit written comments regarding the subject matter of the investigations to the Director, Division of Trade Adjustment Assistance, at the address shown below, not later than May 24, 2010.

Copies of these petitions may be requested under the Freedom of Information Act. Requests may be submitted by fax, courier services, or mail, to FOIA Disclosure Officer, Office of Trade Adjustment Assistance (ETA), U.S. Department of Labor, 200 Constitution Avenue, NW, Washington, DC 20210 or to foiarequest@dol.gov.

Signed at Washington, DC, this 30th day of April 2010.
Richard Church,
Certifying Officer, Division of Trade Adjustment Assistance.

Appendix
[TAA petitions instituted between 4/12/10 and 4/16/10]
TA-W | Subject firm (petitioners) | Location | Date of institution | Date of petition
73899 | Lands' End (Workers) | Dodgeville, WI | 04/12/10 | 04/07/10
73900 | First American Title Company of Los Angeles (Workers) | Waterloo, IA | 04/12/10 | 04/09/10
73901 | Trega Corporation (Workers) | Hamburg, PA | 04/13/10 | 04/12/10
73902 | Premier/Support Services (Union) | Lake Orion, MI | 04/13/10 | 04/09/10
73903 | Owens-Illinois, Inc. (Union) | Clarion, PA | 04/13/10 | 04/09/10
73904 | ConAgra Foods (Lamb Weston) (Union) | Prosser, WA | 04/13/10 | 04/09/10
73905 | McNeil and NRM, Inc. (Company) | Akron, CA | 04/13/10 | 04/12/10
73906 | Ocean Beauty (State/One-Stop) | Los Angeles, CA | 04/13/10 | 04/10/10
73907 | Sherill Manufacturing (Company) | Sherrill, NY | 04/13/10 | 04/12/10
73908 | Quality Enhancement Services, LLC (Company) | Fremont, CA | 04/13/10 | 04/12/10
73909 | International Business Machines Corporation (IBM) (Workers) | Mechanicsburg, PA | 04/13/10 | 03/29/10
73910 | Cranberry Lumber Company (Workers) | Beckley, WV | 04/14/10 | 04/14/10
73911 | Electronic Data Systems (State/One-Stop) | Hartford, CT | 04/14/10 | 04/14/10
73912 | Amdocs (Workers) | New Haven, CT | 04/14/10 | 04/09/10
73913 | Versa Logic Corporation (Workers) | Eugene, OR | 04/14/10 | 04/12/10
73914 | Damco USA, Inc. (State/One-Stop) | Madison, NJ | 04/14/10 | 04/13/10
73915 | ITW Shippers (Workers) | Mount Pleasant, TN | 04/14/10 | 04/14/10
73916 | Catawbia Sox LLC (Company) | Newton, NC | 04/14/10 | 04/13/10
73917 | Stanadyne Corporation (Company) | Jacksonville, NC | 04/14/10 | 04/13/10
73918 | HSBC (Workers) | Tigardi, OR | 04/14/10 | 04/11/10
73919 | Marsh (Workers) | Des Moines, IA | 04/14/10 | 04/12/10
73920 | Carestream Health, Inc. (State/One-Stop) | Windsor, CO | 04/14/10 | 04/13/10
73921 | Coaches! 101 (Company) | Jersey City, NJ | 04/15/10 | 03/25/10
73922 | Land and Mapping Services (Workers) | Clearfield, PA | 04/15/10 | 04/06/10
73923 | Pemco Mutual Insurance (State/One-Stop) | Seattle, WA | 04/15/10 | 04/08/10
73924 | Amsted Rail (Union) | Granite City, IL | 04/15/10 | 04/14/10
73925 | Bunge Milling, Inc. (Union) | Danville, IL | 04/15/10 | 04/14/10
73926 | Dana Holding Corporation (Union) | Glasgow, KY | 04/15/10 | 04/14/10
73927 | Avox Systems, Inc. (Workers) | Lancaster, NY | 04/15/10 | 03/29/10
73928 | Meyer Stamping and Manufacturing, Inc. (Workers) | Fort Wayne, IN | 04/15/10 | 04/05/10
73929 | Chrysler (Union) | Fenton, MO | 04/15/10 | 04/13/10
73930 | Dee Van Enterprise USA, Inc. (Workers) | Fremont, CA | 04/15/10 | 04/05/10
73931 | Toyota Tsusho America, Inc. (Company) | Bedford Park, IL | 04/16/10 | 03/23/10
73932 | Amdocs BCS, Inc. (Workers) | El Dorado Hills, CA | 04/16/10 | 04/08/10
73933 | Exide Technologies (Union) | Reading, PA | 04/16/10 | 04/14/10
73934 | Pass and Seymour (Company) | Concord, NC | 04/16/10 | 04/13/10
73935 | Pratt-Read Corporation (Company) | Shelton, CT | 04/16/10 | 04/15/10
73936 | ATI-Wah Chang (Company) | Albany, OR | 04/16/10 | 04/14/10
73937 | Apria Healthcare (Workers) | Duluth, GA | 04/16/10 | 04/14/10
73938 | Management Resources Group, Inc. (State/One-Stop) | Southbury, CT | 04/16/10 | 04/15/10
73939 | C 3I, Inc. (Workers) | Wilkes Barre, PA | 04/16/10 | 04/13/10
73940 | Oasis International (State/One-Stop) | Columbia, OH | 04/16/10 | 03/18/10
73941 | Applied Materials, Inc. (Workers) | Salt Lake City, UT | 04/16/10 | 04/12/10
73942 | Total Lubricants USA, Inc. (Workers) | Linden, NJ | 04/16/10 | 04/09/10
73943 | Core 3, Inc. (Workers) | Mesa, AZ | 04/16/10 | 04/14/10
73944 | Pentair Filtration (Company) | Sheboygan, WI | 04/16/10 | 04/15/10
73945 | Carlen Transport, Inc. (Workers) | Hampden, ME | 04/16/10 | 04/07/10
73946 | Esterline Technologies (Union) | Taunton, MA | 04/16/10 | 04/15/10
73947 | Hewlett-Packard (State/One-Stop) | Palo Alto, CA | 04/16/10 | 04/14/10
73948 | Central Oregon Workensport (State/One-Stop) | Bend, OR | 04/16/10 | 04/13/10
73949 | Anthem Blue Cross and Blue Shield (Workers) | Cape Girardeau, MO | 04/16/10 | 04/13/10
73950 | Auto Builders, Inc. (Workers) | Ladson, SC | 04/16/10 | 04/14/10
73951 | Ethicon (Union) | San Angelo, TX | 04/16/10 | 04/13/10

[FR Doc. 2010-11272 Filed 5-11-10; 8:45 am]

BILLING CODE 4510-FN-P